DEPARTMENT OF LABOR

Employment and Training Administration

[TA-W-59,925]

American Racing, Rancho Dominguez, CA; Notice of Termination of Investigation

Pursuant to Section 221 of the Trade Act of 1974, as amended, an investigation was initiated on August 18, 2006 in response to a petition filed on behalf of workers at American Racing, Rancho Dominguez, California.

The petition regarding the investigation has been deemed invalid. The petitioner does not constitute a valid worker group of three or more associated workers working at the same facility. Consequently, the investigation has been terminated.

Signed at Washington, DC, this 18th day of August 2006.
Richard Church,
Certifying Officer, Division of Trade Adjustment Assistance.

[FR Doc. E6-14578 Filed 8-31-06; 8:45 am]

BILLING CODE 4510-30-P